DEPARTMENT OF LABOR

Employment and Training Administration

[TA-W-57,541]

Firestone Tube Company, a Subsidiary of Bridgestone/Firestone North America Tire LLC, Russellville, AR; Dismissal of Application for Reconsideration

Pursuant to 29 CFR 90.18(C) an application for administrative reconsideration was filed with the Director of the Division of Trade Adjustment Assistance for workers at Firestone Tube Company, a subsidiary of Bridgestone/Firestone North America Tire LLC, Russellville, Arkansas. The application contained no new substantial information which would bear importantly on the Department's determination. Therefore, dismissal of the application was issued.

TA-W-57,541; Firestone Tube Company a subsidiary of Bridgestone/Firestone North America Tire LLC Russellville, Arkansas (September 12, 2005)

Signed at Washington, DC, this 15th day of September, 2005.
Timothy Sullivan,
Director, Division of Trade Adjustment Assistance.

[FR Doc. E5-5290 Filed 9-27-05; 8:45 am]

BILLING CODE 4510-30-P